DEPARTMENT OF THE INTERIOR

Bureau of Land Management

[ID-075-1330-AC]

Notice of Availability of Final Environmental Impact Statement

SUMMARY: The Department of the Interior, Bureau of Land Management (BLM), announces availability of the Final Environmental Impact Statement (FEIS) for the Dry Valley Mine Extension, Panels C and D. The FEIS analyzes the direct, indirect, and cumulative impacts associated with a proposal by Astaris, LLC (Formerly FMC Corporation) to extend existing open-pit phosphate mining operations in southeastern Idaho. BLM, US Forest Service, and the US Army Corps of Engineers prepared the FEIS. BLM is acting as the lead agency; the US Forest Service is a joint lead agency; and the U.S. Army Corps of Engineers is a cooperating agency for preparation of the FEIS. The Proposed Action includes: construction of two mining pits (Pits C and D), associated haul and access roads, overburden dumps, and use of existing mine facilities to support continued mining. Alternatives to the Proposed Action include the No Action Alternative and alternative methods of handling overburden to reduce impacts caused by the proposed mine extension. The Draft Environmental Impact Statement (DEIS) was distributed in July 1999. The FEIS responds to comments received on the DEIS.

Agency Decisions

The BLM will issue a Record of Decision regarding the proposed Dry Valley Panel C and D Mine and Reclamation Plan and modification (enlargement) of Federal Phosphate Lease I-0678. The Caribou National Forest will provide BLM with recommendations for those portions of the project that are on National Forest System lands. The U.S. Army Corps of Engineers, Walla Walla District anticipates signing a separate Record of Decision regarding issuance of a Section 404 Clean Water Act Permit for the project.

DATES: The Bureau of Land Management and the Department of the Army, Corps of Engineers intend to issue independent Records of Decision (ROD) on the proposal no sooner than July 24, 2000 or 30 days after publication of this Notice in the Federal Register by the Environmental Protection Agency.

ADDRESSES: Limited numbers of the FEIS are available at the Bureau of Land Management, Pocatello Field Office, 1111 N. 8th Avenue, Pocatello, Idaho 83201, telephone (208) 478-6354; the Soda Springs Ranger District of the Caribou National Forest, 421 W. 2nd South, Soda Springs, Idaho 83276, telephone (208) 547-4356; and the US Army Corps of Engineers, Walla Walla District, Idaho Falls Regulatory Office, 900 North Skyline Drive, Suite A, Idaho Falls, Idaho 83402 Falls, telephone (208) 522-1645.

FOR FURTHER INFORMATION CONTACT: Comments or questions may be directed to Jeff Cundick, EIS Project Manager, Bureau of Land Management, Pocatello Field Office, 1111 N. 8th Avenue, Pocatello, Idaho 83201. Telephone: (208) 478-6354.

Jeff S. Steele,
Manager, Pocatello Field Office, Bureau of Land Management.

[FR Doc. 00-15418 Filed 6-22-00; 8:45 am]

BILLING CODE 4310-GG-P